DEPARTMENT OF ENERGY

Federal Energy Regulatory Commission

Combined Notice of Filings

Take notice that the Commission has received the following Natural Gas Pipeline Rate and Refund Report filings:

Filings Instituting Proceedings

Docket Numbers: PR22-56-000.

Applicants: Hope Gas, Inc.

Description: § 284.123(g) Rate Filing: HGI—2020 WV PSC Base Rate Case Petition for Reconsideration to be effective 7/1/2022.

Filed Date: 7/27/22.

Accession Number: 20220727-5128.

Comment Date: 5 p.m. ET 8/17/22.

284.123(g) Protests Due: 5 p.m. ET 9/26/22.

Docket Numbers: RP22-1065-000.

Applicants: Iroquois Gas Transmission System, L.P.

Description: Compliance filing: 7.27.22 Petition for Approval of 2022 Rate Settlement to be effective N/A.

Filed Date: 7/27/22.

Accession Number: 20220727-5033.

Comment Date: 5 p.m. ET 8/8/22.

Docket Numbers: RP22-1066-000.

Applicants: El Paso Natural Gas Company, L.L.C.

Description: § 4(d) Rate Filing: Negotiated Rate Agreements Update (SRP Sept 2022) to be effective 9/1/2022.

Filed Date: 7/27/22.

Accession Number: 20220727-5054.

Comment Date: 5 p.m. ET 8/8/22.

Docket Numbers: RP22-1067-000.

Applicants: Equitrans, L.P.

Description: § 4(d) Rate Filing: Negotiated Rate Agreement—8/1/2022 to be effective 8/1/2022.

Filed Date: 7/28/22.

Accession Number: 20220728-5013.

Comment Date: 5 p.m. ET 8/9/22.

Docket Numbers: RP22-1068-000.

Applicants: Equitrans, L.P.

Description: § 4(d) Rate Filing: Remove Expired Negotiated Rate Service Agreements to be effective 8/28/2022.

Filed Date: 7/28/22.

Accession Number: 20220728-5018.

Comment Date: 5 p.m. ET 8/9/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2022.
Debbie-Anne A. Reese,
Deputy Secretary.

[FR Doc. 2022-16618 Filed 8-2-22; 8:45 am]

BILLING CODE 6717-01-P